DEPARTMENT OF COMMERCE

Submission for OMB Review; Comment Request

The Department of Commerce will submit to the Office of Management and Budget (OMB) for clearance of the following proposal for collection of information under the provisions of the Paperwork Reduction Act (44 U.S.C. chapter 35).

Agency: Bureau of Economic Analysis.

Title: Survey of Foreign Ocean Carriers' Expenses in the United States.

OMB Control Number: 0608-0012.

Form Number(s): BE-29.

Type of Request: Extension of a currently approved collection.

Burden Hours: 229.

Number of Respondents: 85 annually.

Average Hours Per Response: 3 hours for mandatory responses and 1 hour for other (non-mandatory) responses.

Needs and Uses: The data are needed to monitor U.S. international trade in transportation services, to analyze its impact on the U.S. economy and foreign economies, to compile and improve the U.S. economic accounts, to support U.S. commercial policy on transportation services, conduct trade promotion, and improve the ability of U.S. businesses to identify and evaluate market opportunities.

Affected Public: U.S. agents of foreign ocean carriers.

Frequency: Annually.

Respondent's Obligation: Mandatory.

Legal Authority: Title 22 U.S.C., Sections 3101-3108, as amended.

OMB Desk Officer: Paul Bugg, (202) 395-3093.

You may obtain copies of the above information collection proposal by writing or calling Jennifer Jessup, Departmental Paperwork Clearance Officer, (202) 482-0336, Department of Commerce, Room 6616, 14th and Constitution Avenue NW., Washington, DC 20230, or via email at jjessup@doc.gov.

Send comments on the proposed information collection within 30 days of publication of this notice to Paul Bugg, OMB Desk Officer, via email at pbugg@omb.eop.gov, or by FAX at 202-395-7245.

Dated: September 11, 2012.
Glenna Mickelson,
Management Analyst, Office of Chief Information Officer.

[FR Doc. 2012-22803 Filed 9-14-12; 8:45 am]

BILLING CODE 3510-06-P